POSTAL SERVICE

39 CFR Part 111

Hardcopy Postage Statements Discontinued

AGENCY: Postal Service™.

ACTION: Proposed rule.

SUMMARY: The Postal Service is proposing to amend Mailing Standards of the United States Postal Service, Domestic Mail Manual (DMM®) in various sections to discontinue the use of hardcopy postage statements for domestic commercial mailings.

DATES: Submit comments on or before March 15, 2023.

ADDRESSES: Mail or deliver written comments to the Director, Product Classification, U.S. Postal Service, 475 L'Enfant Plaza SW, Room 4446, Washington, DC 20260-5015. If sending comments by email, include the name and address of the commenter and send to PCFederalRegister@usps.gov, with a subject line of “Hardcopy Postage Statements Discontinued”. Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Michael Filipski at (312) 765-3089 or Garry Rodriguez at (202) 268-7281.

SUPPLEMENTARY INFORMATION: Currently, unless manifested using eVS® or mailings entered under the full-service automation program, domestic commercial mailers had the option to submit a completed hardcopy or electronic postage statement for any mailing claiming a discount and all permit imprint mailings.

The Postal Service is proposing to discontinue the use of hardcopy postage statements to improve efficiency by expediting the acceptance of commercial mail. Except for eVS mailings, all domestic commercial mailings must use an approved electronic method to transmit a postage statement to the PostalOne! ® system.

The Postal Service provides free means of electronic postage statement submission through the Intelligent Mail® for Small Business (IMsb) tool and Postal Wizard®. There are also approved third party software options available on PostalPro at postalpro.usps.com.

The use of hardcopy postage statements for Every Door Direct Mail—Retail® (EDDM-R®) and international mailings will not be affected by this proposed revision.

The Postal Service is proposing to implement this change effective January 21, 2024.

We believe the proposed revisions will provide customers with a more efficient mailing experience.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

200 Commercial Letters, Flats, and Parcels

* * * * *

203 Basic Postage Statement, Documentation, and Preparation Standards

1.0 Postage Statements

1.1 Completing Postage Statements

[Revise the first sentence of 1.1 to read as follows:]

Unless manifested using eVS under 705.2.9, any domestic mailing claiming a discount and all permit imprint mailings must be accompanied by a completed electronic postage statement. (Note: Except for Every Door Direct Mail—Retail, all commercial references to “postage statements” in the DMM are electronic.) * * *

* * * * *

[Delete 1.3, Facsimile Postage Statements, in its entirety.]

* * * * *

3.0 Standardized Documentation for First-Class Mail, Periodicals, USPS Marketing Mail, and Flat-Size Bound Printed Matter

* * * * *

3.2 Format and Content

For First-Class Mail, Periodicals, USPS Marketing Mail, and Bound Printed Matter, standardized documentation includes:

* * * * *

e. * * * For Periodicals mailings, documentation also must provide:

* * * * *

[Delete the last sentence of item e4.]

* * * * *

230 Commercial Mail First-Class Mail

* * * * *

234 Postage Payment and Documentation

* * * * *

2.0 Affixing Postage to Presorted and Automation Letters and Flats

2.1 Affixing Postage for Presorted and Automation First-Class Mail

Except as permitted under 2.2 or authorized by the director, Business Acceptance Solutions, each piece must bear the numerical value of postage under one of these conditions:

* * * * *

[Revise the last sentence of item b to read as follows:]

b. * * * Additional postage must be paid at the time of mailing with an advance deposit account.

2.2 Affixing Postage at Less Than Full Price to All Pieces

* * * * *

2.2.1 Lowest Price

A mailer may affix postage evidencing postage at the lowest price as follows:

* * * * *

[Revise the last sentence of item b to read as follows:]

b. Additional postage: * * * The total additional postage must be paid by advance deposit account.

* * * * *

2.2.2 Mixed Price Alternative

[Revise the last sentence of 2.2.2 to read as follows:]

* * * The total additional postage must be paid by advance deposit account.

* * * * *

240 Commercial Mail USPS Marketing Mail

243 Prices and Eligibility

* * * * *

3.3 Additional Basic Standards for USPS Marketing Mail

Each USPS Marketing Mail mailing is subject to these general standards:

* * * * *

[Revise the first sentence of item h to read as follows:]

h. A completed postage statement using the correct USPS form must be submitted with each mailing. * * *

* * * * *

244 Postage Payment and Documentation

* * * * *

2.0 Additional Postage Payment Standards

2.1 Identical-Weight Pieces

[Revise the third sentence in 2.1 to read as follows:]

* * * If exact postage is not affixed, all additional postage and surcharges must be paid at the time of mailing with an advance deposit account. * * *

* * * * *

3.0 Affixing Postage at Less Than Full Price

* * * * *

3.2 Lowest Price

A mailer may affix metered postage at the lowest price on identical-weight pieces as follows:

* * * * *

[Revise the last sentence of item c to read as follows:]

c. Additional postage: * * * The total additional postage must be paid by advance deposit account.

* * * * *

3.3 Mixed Price Alternative for Letters and Flats

[Revise the last sentence of 3.3 to read as follows:]

* * * The total additional postage must be paid by advance deposit account.

* * * * *

245 Mail Preparation

* * * * *

6.0 Preparing Enhanced Carrier Route Letters

* * * * *

6.9 Delivery Sequence Documentation

6.9.1 Basic Standards

[Revise the third sentence of the introductory text of 6.9.1 to read as follows:]

* * * The mailer's electronic confirmation during eDoc submission certifies that this standard has been met when the corresponding mail is presented to the USPS. * * *

* * * * *

9.0 Preparing Enhanced Carrier Route Flats

* * * * *

9.10 Delivery Sequence Documentation

9.10.1 Basic Standards

[Revise the third sentence of the introductory text of 9.10.1 to read as follows:]

* * * The mailer's electronic confirmation during eDoc submission certifies that this standard has been met when the corresponding mail is presented to the USPS. * * *

* * * * *

12.0 Preparing Enhanced Carrier Route Product Sample Parcels

* * * * *

12.7 Delivery Sequence Documentation

12.7.1 General Standards

[Revise the third sentence of the introductory text of 12.7.1 to read as follows:]

* * * The mailer's electronic confirmation during eDoc submission certifies that this standard has been met when the corresponding mail is presented to the USPS. * * *

* * * * *

250 Commercial Mail Parcel Select

* * * * *

254 Postage Payment and Documentation

* * * * *

2.0 Mailing Documentation

2.1 Completing Postage Statements

[Revise the first sentence of 2.1 to read as follows:]

All metered and permit imprint mailings of 50 pieces or more, except manifested mail using eVS under 705.2.9, must be accompanied by a completed postage statement. * * *

* * * * *

602 Addressing

* * * * *

5.0 Move Update Standards

* * * * *

5.4 Mailer Certification

[Revise the text of 5.4 to read as follows:]

The mailer's electronic confirmation during eDoc submission certifies that the Move Update standard has been met for the address records, including each address in the corresponding mailing presented to the Postal Service.

* * * * *

6.0 ZIP Code Accuracy Standards

* * * * *

6.3 Mailer Certification

[Revise the text of 6.3 to read as follows:]

The mailer's electronic confirmation during eDoc submission certifies that the ZIP Code accuracy standard has been met for each address in the corresponding mailing presented to the USPS.

* * * * *

7.0 Carrier Route Accuracy Standard

* * * * *

7.4 Mailer Certification

[Revise the text of 7.4 to read as follows:]

The mailer's electronic confirmation during eDoc submission certifies that the carrier route accuracy standard has been met for each address in the corresponding mailing presented to the USPS.

* * * * *

8.0 Presort Accuracy Validation and Evaluation (PAVE)

8.1 Presort Accuracy Validation and Evaluation (PAVE)

* * * * *

8.1.2 Process

[Revise the second and third sentence of 8.1.2 to read as follows:]

* * * Vendors process the test file(s) through their presort software or hardware and return the resulting presort documentation to the USPS National Customer Support Center (NCSC) for evaluation of the answers. Each test file is evaluated for its accuracy of presort, compliance with current DMM standards, accuracy of sack/tray/pallet tag labels, and general acceptability of presort documentation. * * *

* * * * *

9.0 Coding Accuracy Support System (CASS)

* * * * *

9.3 Date of Address Matching and Coding

9.3.1 Update Standards

[Revise the seventh sentence in the introductory text of 9.3.1 to read as follows:]

* * * The mailer's electronic confirmation during eDoc submission certifies that this standard has been met when the corresponding mail is presented to the USPS. * * *

* * * * *

9.5 Documentation

9.5.1 Form 3553

[Revise the last sentence of 9.5.1 to read as follows:]

* * * The mailer certifies compliance with electronic confirmation during eDoc submission.

* * * * *

604 Postage Payment Methods and Refunds

* * * * *

3.0 Precanceled Stamps

3.1 General Information

* * * * *

3.1.8 Return Address

* * * Mailpieces bearing precanceled stamps and any return addresses outside the Post Office of mailing must meet one of the following standards:

* * * * *

[Revise item a to read as follows:]

a. At the time of mailing, the mailer must submit a copy of the postage statement and a sample mailpiece, enclosed in a stamped envelope and addressed to the postmaster at the Post Office of the return address.

* * * * *

607 Mailer Compliance and Appeals of Classification Decisions

1.0 Mailer Compliance With Mailing Standards

1.1 Mailer Responsibility

[Revise the third sentence of 1.1 to read as follows:]

* * * For mailings that require a postage statement, the mailer certifies compliance with all applicable postal standards with electronic confirmation during eDoc submission. * * *

1.2 Postage Payment

[Revise the last sentence of 1.2 to read as follows:]

* * * A USPS employee's acceptance of the postage statement and the subsequent acceptance of the mailing does not constitute verified accuracy of that statement and does not limit the ability of the USPS to demand proper payment after acceptance when it becomes apparent such payment was not made.

* * * * *

700 Special Standards

* * * * *

705 Advanced Preparation and Special Postage Payment Systems

* * * * *

2.0 Manifest Mailing System

* * * * *

2.2 Basic Standards

* * * * *

2.2.7 Postage Statement

[Revise the text of 2.2.7 by deleting the last two sentences.]

* * * * *

9.0 Combining Bundles of Automation and Nonautomation Flats in Trays and Sacks

9.1 First-Class Mail

9.1.1 Basic Standards

Bundles of flats in an automation price mailing prepared under 235.6.5 must be cotrayed with bundles of flats in a Presorted price mailing under the following conditions:

* * * * *

[Revise the first sentence of item h to read as follows:]

h. A complete postage statement, using the correct USPS form, must accompany each mailing job prepared under these procedures. * * *

* * * * *

9.3 USPS Marketing Mail

9.3.1 Basic Standards

Bundles of flats in an automation price mailing must be cosacked with bundles of flats in a Presorted price mailing under the following conditions:

* * * * *

[Revise the first sentence of item h to read as follows:]

h. A complete postage statement(s), using the correct USPS form, must accompany each mailing job prepared under these procedures. * * *

* * * * *

9.4 Bound Printed Matter

9.4.1 Basic Standards

Bundles of flat-size pieces in a Presorted price mailing qualifying for and claiming the barcode discount under 263.3.0, 263.2.0, and 263.5.0 must be cosacked with bundles of flat-size pieces from a Presorted price mailing (not claiming the barcode discount) under the following conditions:

* * * * *

[Revise the first sentence of item h to read as follows:]

h. A complete postage statement(s), using the correct USPS form, must accompany each mailing job prepared under these procedures. * * *

* * * * *

10.0 Merging Bundles of Flats Using the City State Product

10.1 Periodicals

10.1.1 Basic Standards

* * * Carrier route bundles in a carrier route mailing may be placed in the same sack or on the same pallet as 5-digit bundles from machinable (barcoded or nonbarcoded) price mailings (including pieces cobundled under 11.0) under the following conditions:

* * * * *

[Revise the first sentence of item i to read as follows:]

i. A complete postage statement(s), using the correct USPS form, must accompany each mailing job prepared under these procedures. * * *

* * * * *

10.2 USPS Marketing Mail

10.2.1 Basic Standards

Carrier route bundles from a carrier route price mailing may be placed in the same sack or on the same pallet as 5-digit bundles from an automation price mailing and 5-digit bundles from a Presorted price mailing (including pieces cobundled under 11.0) under the following conditions:

* * * * *

[Revise the text of item k to read as follows:]

k. A complete postage statement, using the correct USPS form, must accompany each mailing job prepared under these procedures.

* * * * *

12.0 Merging Bundles of Flats on Pallets Using a 5% Threshold

12.1 Periodicals

12.1.1 Basic Standards

* * * Five-digit bundles from a barcoded price mailing and 5-digit bundles from a nonbarcoded price mailing (including pieces cobundled under 11.0) may be placed on the same pallet as carrier route bundles under the following conditions:

* * * * *

[Revise the first sentence in the introductory text of item f to read as follows:]

f. A complete postage statement, using the correct USPS form, must accompany each mailing job. * * *

* * * * *

12.2 USPS Marketing Mail

12.2.1 Basic Standards

* * * Five-digit bundles from an automation price mailing and 5-digit bundles from a Presorted price mailing (including pieces cobundled under 11.0) may be placed on the same pallet as carrier route bundles under the following conditions:

* * * * *

[Revise the text of item j to read as follows:]

j. A complete postage statement, using the correct USPS form, must be submitted for each mailing job prepared under these procedures.

* * * * *

13.0 Merging Bundles of Flats on Pallets Using the City State Product and a 5% Threshold

13.1 Periodicals

13.1.1 Basic Standards

* * * Five-digit bundles from a barcoded price mailing and 5-digit bundles from a nonbarcoded price mailing (including pieces cobundled under 11.0) may be placed on the same pallet as carrier route bundles under the following conditions:

* * * * *

[Revise the first sentence in the introductory text of item g to read as follows:]

g. A complete postage statement, using the correct USPS form, must be submitted for each mailing job. * * *

* * * * *

13.2 USPS Marketing Mail

13.2.1 Basic Standards

* * * Five-digit bundles from an automation price mailing and 5-digit bundles from a Presorted price mailing (including pieces cobundled under 11.0) may be placed on the same pallet as carrier route bundles under the following conditions:

* * * * *

[Revise the text of item k to read as follows:]

k. A complete postage statement, using the correct USPS form, must be submitted for each mailing job prepared under these procedures.

* * * * *

17.0 Plant-Verified Drop Shipment

* * * * *

17.2 Program Participation

* * * * *

17.2.3 Verification at Origin BMEU

PVDS verification can be performed at the origin business mail entry unit (BMEU) under these conditions:

* * * * *

[Revise the text of item d to read as follows:]

d. Form 8125 accompanies each PVDS (or segment, if the PVDS is contained in more than one vehicle).

* * * * *

Tram T. Pham,
Attorney, Ethics and Legal Compliance.

[FR Doc. 2023-02824 Filed 2-10-23; 8:45 am]

BILLING CODE P